NUCLEAR REGULATORY COMMISSION

10 CFR Part 72

[NRC-2011-0008]

RIN 3150-AI91

List of Approved Spent Fuel Storage Casks: MAGNASTOR® System, Revision 2

AGENCY: Nuclear Regulatory Commission.

ACTION: Direct final rule; confirmation of effective date.

SUMMARY: The U.S. Nuclear Regulatory Commission (NRC or the Commission) is confirming the effective date of January 30, 2012, for the direct final rule that was published in the Federal Register on November 14, 2011. This direct final rule amended the NRC's spent fuel storage regulations by revising the NAC International, Inc. (NAC) MAGNASTOR® System listing within the “List of Approved Spent Fuel Storage Casks” to include Amendment No. 2 to Certificate of Compliance (CoC) Number 1031.

DATES: Effective Date: The effective date of January 30, 2012, is confirmed for this direct final rule published November 14, 2011 at 76 FR 70331.

ADDRESSES: You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov.

• Federal Rulemaking Web Site: Public comments and supporting materials related to this final rule can be found at http://www.regulations.gov by searching on Docket ID NRC-2011-0008. Address questions about NRC dockets to Carol Gallagher, telephone: (301) 492-3668; email: Carol.Gallagher@nrc.gov.

FOR FURTHER INFORMATION CONTACT: Gregory Trussell, Office of Federal and State Materials and Environmental Management Programs, U.S. Nuclear Regulatory Commission, Washington, DC 20555, telephone: (301) 415-6445, email: Gregory.Trussell@nrc.gov.

SUPPLEMENTARY INFORMATION: On November 14, 2011 (76 FR 70331), the NRC published a direct final rule amending its regulations at Title 10 of the Code of Federal Regulations Section 72.214 by revising the NAC MAGNASTOR® System listing within the “List of Approved Spent Fuel Storage Casks” to include Amendment No. 2 to CoC Number 1031. In the direct final rule, the NRC stated that if no significant adverse comments were received, the direct final rule would become effective on January 30, 2012. The NRC did not receive any comments on the direct final rule. Therefore, this rule will become effective as scheduled.

Dated at Rockville, Maryland, this 24th day of January 2012.
For the Nuclear Regulatory Commission.
Cindy Bladey,
Chief, Rules, Announcements, and Directives Branch, Division of Administrative Services, Office of Administration.

[FR Doc. 2012-1770 Filed 1-26-12; 8:45 am]

BILLING CODE 7590-01-P